DEPARTMENT OF ENERGY

Federal Energy Regulatory Commission

Combined Notice of Filings #1

Take notice that the Commission received the following electric corporate filings:

Docket Numbers: EC25-37-000.

Applicants: Norton Rose Fulbright US LLP, Cataract Coast, LLC.

Description: Joint Application for Authorization Under Section 203 of the Federal Power Act of Cataract Coast, LLC, et al.

Filed Date: 1/7/25.

Accession Number: 20250107-5201.

Comment Date: 5 p.m. ET 1/28/25.

Take notice that the Commission received the following exempt wholesale generator filings:

Docket Numbers: EG25-72-000.

Applicants: PGR 2023 Lessee 1, LLC.

Description: PGR 2023 Lessee 1, LLC submits Notice of Self-Certification of Exempt Wholesale Generator Status.

Filed Date: 1/10/25.

Accession Number: 20250110-5060.

Comment Date: 5 p.m. ET 1/31/25.

Docket Numbers: EG25-73-000.

Applicants: Catalina Solar, LLC.

Description: Catalina Solar, LLC submits Notice of Self-Certification of Exempt Wholesale Generator Status.

Filed Date: 1/10/25.

Accession Number: 20250110-5064.

Comment Date: 5 p.m. ET 1/31/25.

Docket Numbers: EG25-74-000.

Applicants: East Atmore Solar, LLC.

Description: East Atmore Solar, LLC submits Notice of Self-Certification of Exempt Wholesale Generator Status.

Filed Date: 1/10/25.

Accession Number: 20250110-5189.

Comment Date: 5 p.m. ET 1/31/25.

Docket Numbers: EG25-75-000.

Applicants: BOCA bn, LLC.

Description: BOCA bn, LLC submits Notice of Self-Certification of Exempt Wholesale Generator Status.

Filed Date: 1/10/25.

Accession Number: 20250110-5252.

Comment Date: 5 p.m. ET 1/31/25.

Take notice that the Commission received the following electric rate filings:

Docket Numbers: ER15-1332-012; ER10-2401-012; ER10-2402-011; ER11-3414-012; ER10-2403-012; ER18-1188-007; ER17-1318-008; ER13-1816-024; ER15-1333-011.

Applicants: Waverly Wind Farm LLC, Sustaining Power Solutions LLC, Redbed Plains Wind Farm LLC, Prairie Queen Wind Farm LLC, Cloud County Wind Farm, LLC, Blue Canyon Windpower VI LLC, Blue Canyon Windpower V LLC, Blue Canyon Windpower II LLC, Arbuckle Mountain Wind Farm LLC.

Description: Triennial Market Power Analysis for Southwest Power Pool Inc. Region of Arbuckle Mountain Wind Farm LLC, et al. under ER15-1332 et al.

Filed Date: 12/31/24.

Accession Number: 20241231-5479.

Comment Date: 5 p.m. ET 3/3/25.

Docket Numbers: ER18-471-014; ER23-2234-003; ER23-2233-003; ER23-2236-003; ER23-2235-003; ER23-647-004; ER23-2238-003; ER23-2237-003; ER23-2241-003; ER23-2240-003; ER23-2243-003; ER23-2242-003; ER23-2245-003; ER23-2244-003; ER23-645-003; ER23-646-004.

Applicants: Wagon Wheel Wind Project Holdings LLC, Wagon Wheel Wind Project, LLC, Pixley Solar Energy Holdings LLC, Pixley Solar Energy LLC, Lazbuddie Wind Energy Holdings LLC, Lazbuddie Wind Energy LLC, Flat Ridge 5 Wind Energy Holdings LLC, Flat Ridge 5 Wind Energy LLC, Flat Ridge 4 Wind Holdings LLC, Flat Ridge 4 Wind, LLC, Diversion Wind Energy Holdings LLC, Chisholm Trail Solar Energy Holdings LLC, Chisholm Trail Solar Energy LLC, Algodon Solar Energy Holdings LLC, Algodon Solar Energy LLC, States Edge Wind I LLC.

Description: Triennial Market Power Analysis for the Southwest Power Pool Inc. Region of States Edge Wind I LLC, et al.

Filed Date: 12/31/24.

Accession Number: 20241231-5480.

Comment Date: 5 p.m. ET 3/3/25.

Docket Numbers: ER21-204-004.

Applicants: Commonwealth Edison Company, PJM Interconnection, L.L.C.

Description: Compliance filing: Commonwealth Edison Company submits tariff filing per 35: ComEd Clean-Up Filing to Adopt Certain Apprved Updates into Att H-13A to be effective 5/1/2020.

Filed Date: 1/10/25.

Accession Number: 20250110-5246.

Comment Date: 5 p.m. ET 1/31/25.

Docket Numbers: ER22-2360-002.

Applicants: Tri-State Generation and Transmission Association, Inc.

Description: Compliance filing: Further Compliance Filing Regarding Order No. 881 to be effective N/A.

Filed Date: 1/10/25.

Accession Number: 20250110-5257.

Comment Date: 5 p.m. ET 1/31/25.

Docket Numbers: ER24-2431-002.

Applicants: Duke Energy Progress, LLC, Energy Carolinas, LLC.

Description: Tariff Amendment: Duke Energy Carolinas, LLC submits tariff filing per 35.17(b): Response to Deficiency Letter (Provisional Interconnection) to be effective 4/1/2025.

Filed Date: 1/10/25.

Accession Number: 20250110-5013.

Comment Date: 5 p.m. ET 1/31/25.

Docket Numbers: ER25-151-001.

Applicants: Duff Solar Park LLC.

Description: Tariff Amendment: Response to Deficiency Letter to be effective 12/18/2024.

Filed Date: 1/10/25.

Accession Number: 20250110-5017.

Comment Date: 5 p.m. ET 1/31/25.

Docket Numbers: ER25-152-001.

Applicants: Pleasantville Solar Park LLC.

Description: Tariff Amendment: Response to Deficiency Letter to be effective 12/18/2024.

Filed Date: 1/10/25.

Accession Number: 20250110-5018.

Comment Date: 5 p.m. ET 1/31/25.

Docket Numbers: ER25-153-001.

Applicants: Riverstart Solar Park IV LLC.

Description: Tariff Amendment: Response to Deficiency Letter to be effective 12/18/2024.

Filed Date: 1/10/25.

Accession Number: 20250110-5019.

Comment Date: 5 p.m. ET 1/31/25.

Docket Numbers: ER25-154-001.

Applicants: Sandrini BESS Storage LLC.

Description: Tariff Amendment: Response to Deficiency Letter to be effective 12/18/2024.

Filed Date: 1/10/25.

Accession Number: 20250110-5020.

Comment Date: 5 p.m. ET 1/31/25.

Docket Numbers: ER25-300-002.

Applicants: ITC Great Plains, LLC, Southwest Power Pool, Inc.

Description: Tariff Amendment: ITC Great Plains, LLC submits tariff filing per 35.17(b): ITC Great Plains, LLC Second Amendment to Formula Rate Revisions Filing to be effective 1/1/2025.

Filed Date: 1/10/25.

Accession Number: 20250110-5006.

Comment Date: 5 p.m. ET 1/31/25.

Docket Numbers: ER25-883-000.

Applicants: Duke Energy Indiana, LLC.

Description: § 205(d) Rate Filing: 2025-01-09_SA 4429_Duke Energy-Vermillion E&P (J1518) to be effective 1/10/2025.

Filed Date: 1/10/25.

Accession Number: 20250110-5001.

Comment Date: 5 p.m. ET 1/31/25.

Docket Numbers: ER25-884-000.

Applicants: Duke Energy Indiana, LLC.

Description: § 205(d) Rate Filing: DEI—AES Indiana Construction Agmt Rate Schedule No. 284 to be effective 3/11/2025.

Filed Date: 1/10/25.

Accession Number: 20250110-5002.

Comment Date: 5 p.m. ET 1/31/25.

Docket Numbers: ER25-885-000.

Applicants: New York Independent System Operator, Inc., New York Transco, LLC.

Description: § 205(d) Rate Filing: New York Independent System Operator, Inc. submits tariff filing per 35.13(a)(2)(iii: NY Transco 205: proposed revisions to formula rate re: ROE and O&M accounts to be effective 3/11/2025.

Filed Date: 1/10/25.

Accession Number: 20250110-5003.

Comment Date: 5 p.m. ET 1/31/25.

Docket Numbers: ER25-886-000.

Applicants: Southwest Power Pool, Inc.

Description: § 205(d) Rate Filing: 3221R1 Grain Belt Express/ITC Great Plains Int Agr to be effective 3/11/2025.

Filed Date: 1/10/25.

Accession Number: 20250110-5004.

Comment Date: 5 p.m. ET 1/31/25.

Docket Numbers: ER25-887-000.

Applicants: PacifiCorp.

Description: § 205(d) Rate Filing: Calpine NITSA Rev 19 (SA No. 299) to be effective 1/1/2025.

Filed Date: 1/10/25.

Accession Number: 20250110-5007.

Comment Date: 5 p.m. ET 1/31/25.

Docket Numbers: ER25-888-000.

Applicants: Peoples Natural Gas.

Description: Tariff Amendment: Notice of Cancellation of Market-Based Rate Tariff to be effective 1/10/2025.

Filed Date: 1/10/25.

Accession Number: 20250110-5011.

Comment Date: 5 p.m. ET 1/31/25.

Docket Numbers: ER25-889-000.

Applicants: The Connecticut Light and Power Company.

Description: Tariff Amendment: Cancel—Design and Engineering Agreement—WE 400 Groton Road, LLC to be effective 1/10/2025.

Filed Date: 1/10/25.

Accession Number: 20250110-5012.

Comment Date: 5 p.m. ET 1/31/25.

Docket Numbers: ER25-890-000.

Applicants: Catalina Solar, LLC.

Description: § 205(d) Rate Filing: Catalina Solar, LLC MBR Tariff to be effective 2/23/2025.

Filed Date: 1/10/25.

Accession Number: 20250110-5014.

Comment Date: 5 p.m. ET 1/31/25.

Docket Numbers: ER25-891-000.

Applicants: PGR 2023 Lessee 1, LLC.

Description: § 205(d) Rate Filing: PGR 2023 Lessee 1 MBR Tariff to be effective 2/23/2025.

Filed Date: 1/10/25.

Accession Number: 20250110-5015.

Comment Date: 5 p.m. ET 1/31/25.

Docket Numbers: ER25-892-000.

Applicants: American Electric Power Service Corporation.

Description: § 205(d) Rate Filing: AEP submits one FA with City of Niles and MPPA-SA No. 5677 to be effective 4/1/2025.

Filed Date: 1/10/25.

Accession Number: 20250110-5024.

Comment Date: 5 p.m. ET 1/31/25.

Docket Numbers: ER25-893-000.

Applicants: Tri-State Generation and Transmission Association, Inc.

Description: § 205(d) Rate Filing: Amendment to Service Agreement FERC No. 891 to be effective 12/11/2024.

Filed Date: 1/10/25.

Accession Number: 20250110-5195.

Comment Date: 5 p.m. ET 1/31/25.

Docket Numbers: ER25-894-000.

Applicants: Tri-State Generation and Transmission Association, Inc.

Description: § 205(d) Rate Filing: Amendment to Service Agreement FERC No. 804 to be effective 10/10/2024.

Filed Date: 1/10/25.

Accession Number: 20250110-5231.

Comment Date: 5 p.m. ET 1/31/25.

Docket Numbers: ER25-895-000.

Applicants: BOCA bn, LLC.

Description: Initial Rate Filing: MBR Tariff Application Filing to be effective 1/24/2025.

Filed Date: 1/10/25.

Accession Number: 20250110-5233.

Comment Date: 5 p.m. ET 1/31/25.

Docket Numbers: ER25-896-000.

Applicants: East Atmore Solar, LLC.

Description: § 205(d) Rate Filing: East Atmore Solar, LLC MBR Tariff to be effective 3/12/2025.

Filed Date: 1/10/25.

Accession Number: 20250110-5259.

Comment Date: 5 p.m. ET 1/31/25.

Docket Numbers: ER25-897-000.

Applicants: Tri-State Generation and Transmission Association, Inc.

Description: § 205(d) Rate Filing: Initial Filing of Rate Schedule Nos. 392 and 393 to be effective 10/1/2024.

Filed Date: 1/10/25.

Accession Number: 20250110-5273.

Comment Date: 5 p.m. ET 1/31/25.

Docket Numbers: ER25-898-000.

Applicants: Alabama Power Company, Georgia Power Company, Mississippi Power Company.

Description: Tariff Amendment: Alabama Power Company submits tariff filing per 35.15: Shelby Solar Park LGIA Termination Filing to be effective 1/10/2025.

Filed Date: 1/10/25.

Accession Number: 20250110-5275.

Comment Date: 5 p.m. ET 1/31/25.

Docket Numbers: ER25-899-000.

Applicants: Alabama Power Company, Georgia Power Company, Mississippi Power Company.

Description: Tariff Amendment: Alabama Power Company submits tariff filing per 35.15: Hancock County Solar Project LGIA Termination Filing to be effective 1/10/2025.

Filed Date: 1/10/25.

Accession Number: 20250110-5276.

Comment Date: 5 p.m. ET 1/31/25.

Docket Numbers: ER25-900-000.

Applicants: Alabama Power Company, Georgia Power Company, Mississippi Power Company.

Description: Tariff Amendment: Alabama Power Company submits tariff filing per 35.15: Sable Solar LGIA Termination Filing to be effective 1/10/2025.

Filed Date: 1/10/25.

Accession Number: 20250110-5279.

Comment Date: 5 p.m. ET 1/31/25.

Docket Numbers: ER25-901-000.

Applicants: Cheyenne Light, Fuel and Power Company.

Description: § 205(d) Rate Filing: Filing of LGIA with NextEra Energy Resources Interconnection Holdings, LLC to be effective 12/13/2024.

Filed Date: 1/10/25.

Accession Number: 20250110-5280.

Comment Date: 5 p.m. ET 1/31/25.

Take notice that the Commission received the following electric securities filings:

Docket Numbers: ES25-26-000.

Applicants: Consumers Energy Company.

Description: Application Under Section 204 of the Federal Power Act for Authorization to Issue Securities of Consumers Energy Company.

Filed Date: 1/6/25.

Accession Number: 20250106-5249.

Comment Date: 5 p.m. ET 1/27/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 10, 2025.
Carlos D. Clay,
Acting Deputy Secretary.

[FR Doc. 2025-00983 Filed 1-15-25; 8:45 am]

BILLING CODE 6717-01-P